DEPARTMENT OF COMMERCE

International Trade Administration

U.S. Electronic Education Fair for China

AGENCY: International Trade Administration, Department of Commerce.

ACTION: Notice.

SUMMARY: U.S. accredited colleges and universities are invited to participate in the U.S. Electronic Education Fair For China by purchasing space on the initiative's Internet landing page.

DATES: We are extending the application window until 3 p.m. EST December 8, 2006.

ADDRESSES: E-mail: Alex Feldman: Alex.Feldman@mail.doc.gov. Amber Wesley: Amber.Wesley@mail.doc.gov. Fax: 202-482-4821.

FOR FURTHER INFORMATION CONTACT: Alexander Feldman, U.S. Department of Commerce, Room 3850. Tel: (202) 482-8243. Amber Wesley, U.S. Department of Commerce, Room 3850. Tel: (202) 482-6357.

SUPPLEMENTARY INFORMATION: The U.S. Electronic Education Fair for China is a joint initiative between the U.S. Department of Commerce and the U.S. Department of State. The purpose of the initiative is to inform Chinese students who are interested in studying outside of China about the breadth and depth of the higher education opportunities available in the U.S. The initiative will have a three-pronged multimedia approach using television, the Internet and on-ground activities. Two, thirty minute TV programs will be produced in combination with a series of short, 3 minute programs, aired on local cable and national satellite TV stations throughout China all of which will drive viewers to the Internet landing page. DVDs distributed through education trade fairs and also through the 47 EducationUSA advisory centers throughout China will further this message.

Accredited U.S. Institutions are invited to purchase space on the Internet Landing page in order to provide information about their schools. Informational space will be available at a Gold or Silver level. Institutions purchasing at the Gold level, priced at $8,000, will receive a banner-sized ad with their schools logo and name, which will link to their school Web site. Those who purchase at the Silver level, priced at $3,000, will have their name listed on the site with a link to their institution Web site.

Dated: November 21, 2006.
Alexander Feldman,
Senior Advisor to the Under Secretary for International Trade.

[FR Doc. E6-20070 Filed 11-27-06; 8:45 am]

BILLING CODE 3510-25-P